DEPARTMENT OF HEALTH AND HUMAN SERVICES

National Institutes of Health

National Institute of Neurological Disorders and Stroke; Amended Notice of Meeting

Notice is hereby given of a change in the meeting of the Board of Scientific Counselors, National Institute of Neurological Disorders and Stroke, March 22, 2020, 06:00 p.m. to March 24, 2020, 12:00 p.m., Residence Inn Bethesda, 7335 Wisconsin Avenue, Bethesda, MD 20814 which was published in the Federal Register on November 15, 2019, 84 FR 62543.

The meeting notice is to change the meeting format to virtual instead of in person. The meeting is closed to the public.

Dated: March 13, 2020.
Miguelina Perez,
Program Analyst, Office of Federal Advisory Committee Policy.

[FR Doc. 2020-05633 Filed 3-17-20; 8:45 am]

BILLING CODE 4140-01-P